COMMITTEE FOR PURCHASE FROM PEOPLE WHO ARE BLIND OR SEVERELY DISABLED

Procurement List; Proposed Deletions

AGENCY: Committee for Purchase from People Who Are Blind or Severely Disabled.

ACTION: Proposed Deletions from Procurement List.

SUMMARY: The Committee is proposing to delete from the Procurement List products previously furnished by nonprofit agencies employing persons who are blind or have other severe disabilities.

COMMENTS MUST BE RECEIVED ON OR BEFORE: December 8, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a)(2) and 41 CFR 51-2.3. Its purpose is to provide interested persons an opportunity to submit comments on the possible impact of the proposed deletions.

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products are proposed for deletion from the Procurement List:

Products:

Product/NSN: Card Set, Guide, File.

7530-00-861-1263.

7530-00-861-1272.

NPA: Georgia Industries for the Blind, Bainbridge, Georgia.

Contract Activity: Office Supplies & Paper Products Acquisition Center, New York, New York.

Product/NSN: Disk, Flexible.

7045-01-251-7527.

7045-01-365-2070.

7045-01-365-2071.

7045-01-209-2193.

NPA: North Central Sight Services, Inc., Williamsport, Pennsylvania.

Contract Activity: Defense Supply Center Philadelphia, Philadelphia, Pennsylvania.

Product/NSN: Tape, Computer.

7045-01-119-6357.

NPA: North Central Sight Services, Inc., Williamsport, Pennsylvania.

Contract Activity: Defense Supply Center Columbus, Columbus, Ohio.

Product/NSN: Tape, Electronic Data Processing.

7045-01-338-6542.

NPA: North Central Sight Services, Inc., Williamsport, Pennsylvania.

Contract Activity: Defense Supply Center Columbus, Columbus, Ohio.

Sheryl D. Kennerly,
Director, Information Management.

[FR Doc. 02-28553 Filed 11-7-02; 8:45 am]

BILLING CODE 6353-01-P